ENVIRONMENTAL PROTECTION AGENCY

[ER-FRL-9022-1]

Environmental Impact Statements; Notice of Availability

Responsible Agency: Office of Federal Activities, General Information (202) 564-7146 or http://www2.epa.gov/nepa.

Weekly receipt of Environmental Impact Statements

Filed 07/13/2015 Through 07/17/2015

Pursuant to 40 CFR 1506.9.

Notice: Section 309(a) of the Clean Air Act requires that EPA make public its comments on EISs issued by other Federal agencies. EPA's comment letters on EISs are available at: https://cdxnodengn.epa.gov/cdx-enepa-public/action/eis/search.

EIS No. 20150198, Draft, USAF, OR, Proposed Establishment and Modification of Oregon Military Training Airspace, comment period ends: 09/08/2015, Contact: Kevin Marek 240-612-8855.

EIS No. 20150199, Draft, OSM, Other, Stream Protection Rule, comment period ends: 09/15/2015, Contact: Robin Ferguson 202-208-2802.

EIS No. 20150200, Draft, USFWS, CA, South Bay Salt Pond Restoration Project Phase 2, comment period ends: 09/22/2015, Contact: Anne Morkill 510-792-0222.

EIS No. 20150201, Draft, FERC, LA, Magnolia Liquefied Natural Gas (LNG) and Lake Charles Expansion Projects, comment period ends: 09/08/2015, Contact: Janine Cefalu 202-502-8271.

EIS No. 20150202, Final, FHWA, LA, ADOPTION—I-12 to Bush, Louisiana Proposed Highway, review period ends: 08/24/2015, Contact: Carl Highsmith 225-757-7615.

The U.S. Department of Transportation's Federal Highway Administration (FHWA) and Louisiana Department of Transportation has adopted the U.S. Army Corps of Engineers' final EIS #20120055, filed 02/29/2012 with EPA. The FHWA was not a cooperating agency for the above EIS. Therefore recirculation of the EIS is necessary under the CEQ Regulations Section 1506.3.

Dated: July 21, 2015.
Dawn Roberts,
Management Analyst, NEPA Compliance Division, Office of Federal Activities.

[FR Doc. 2015-18204 Filed 7-23-15; 8:45 am]

BILLING CODE 6560-50-P